DEPARTMENT OF JUSTICE

Antitrust Division

Notice Pursuant to the National Cooperative Research and Production Act of 1993—Advanced Media Workflow Association, Inc.

Notice is hereby given that, on June 10, 2009, pursuant to Section 6(a) of the National Cooperative Research and Production Act of 1993, 15 U.S.C. 4301 et seq. (“the Act”), Advanced Media Workflow Association Inc. has filed written notifications simultaneously with the Attorney General and the Federal Trade Commission disclosing changes in its membership. The notifications were filed for the purpose of extending the Act's provisions limiting the recovery of antitrust plaintiffs to actual damages under specified circumstances. Specifically, Florical Systems, Gainesville, FL; StorerTV, Mequon, WI; Matt Beard (individual member), Maud, UNITED KINGDOM; and John Luff (individual member), Sewickley, PA have been added as parties to this venture. Also, Digital Vision, London, UNITED KINGDOM; Nielsen, Westport, CT; SecurePath Technology LLC, Los Angeles, CA; and Rick Turbeville (individual member), Waynesboro, VA have withdrawn as parties to this venture.

No other changes have been made in either the membership or planned activity of the group research project. Membership in this group research project remains open, and Advanced Media Workflow Association Inc. intends to file additional written notifications disclosing all changes in membership.

On March 28, 2000, Advanced Media Workflow Association Inc. filed its original notification pursuant to Section 6(a) of the Act. The Department of Justice published a notice in the Federal Register pursuant to Section 6(b) of the Act on June 29, 2000 (65 FR 40127).

The last notification was filed with the Department on March 24, 2009. A notice was published in the Federal Register pursuant to Section 6(b) of the Act on April 24, 2009 (74 FR 18748).

Patricia A. Brink,
Deputy Director of Operations, Antitrust Division.

[FR Doc. E9-16699 Filed 7-14-09; 8:45 am]

BILLING CODE 4410-11-M